DEPARTMENT OF VETERANS AFFAIRS

Advisory Committee on Minority Veterans, Notice of Meeting

The Department of Veterans Affairs (VA) gives notice under the Public Law 92-463 (Federal Advisory Committee Act) that meetings of the Advisory Committee on Minority Veterans will be held in Chicago, Illinois from April 23-25, 2013, at the below times and locations:

On April 23, from 8:15 a.m. to 3 p.m., at the Edward Hines, Jr. VA Medical Hospital, 5000 South 5th Avenue, Hines, Illinois; 4:30 p.m. to 5 p.m., at the VA Regional Office, 2122 West Taylor Street, Chicago, IL;.

On April 24, from 9 a.m. to 11 a.m., at the Abraham Lincoln National Cemetery, 20953 West Hoff Road, Elwood Illinois; from 2 p.m. to 3 p.m., at the VA Joliet Community Outpatient Center (CBOC), 1201 Eagle Street, Joliet, Illinois; St. Luke Church of God in Christ, 914 North Orleans Street, Chicago, IL; 6:30 to 8:30 p.m., St. Luke Church of God in Christ, 914 North Orleans Street, Chicago, IL; and

On April 25, from 8:30 a.m. to 5:30 p.m., at the Edward Hines, Jr. VA Medical Hospital.

The purpose of the Committee is to advise the Secretary on the administration of VA benefits and services to minority Veterans, to assess the needs of minority Veterans and to evaluate whether VA compensation and pension, medical and rehabilitation services, memorial services outreach, and other programs are meeting those needs. The Committee will make recommendations to the Secretary regarding such activities subsequent to the meeting.

On the morning of April 23, the Committee will meet in open session with key staff at the Edward Hines, Jr. VA Medical Hospital to discuss services, benefits, delivery challenges, and successes. From 11:45 a.m. to noon, the Committee will convene a closed session in order to protect patient privacy as the Committee tours the VA Polytrauma Center. In the afternoon, the Committee will reconvene in open session to meet with local Veterans Service Organizations to discuss Chicago area Veterans' issues and be briefed by senior Veterans Benefits Administration staff. The Committee will travel to the VA Regional Office and reconvene in a closed session from 4:30 p.m. to 5 p.m. in order to protect patient privacy as the Committee tours the facility. Closing these sessions is in accordance with 5 U.S.C. 552b(c)(6).

On the morning of April 24, the Committee will convene in open session at the Abraham Lincoln National Cemetery. The Committee will meet with key staff to discuss services, benefits, delivery challenges and successes. In the afternoon from 2 p.m. to 3 p.m., the Committee will convene a closed session to meet with key staff at the VA Joliet CBOC to tour the facility. In the evening, the Committee will hold a Veterans Town Hall meeting at the St. Luke Church of God in Christ, beginning at 6:30 p.m.

On the morning of April 25, the Committee will convene in open session to conduct an exit briefing with leadership from the VA Hospital, Chicago Regional Office, and Abraham Lincoln National Cemetery. In the afternoon, the Committee will work on their report to the Secretary.

Time will be allocated for receiving public comments on April 25, at 10 a.m. Public comments will be limited to three minutes each. Individuals wishing to make oral statements before the Committee will be accommodated on a first-come first served basis. Individuals who speak are invited to submit a 1-2 page summaries of their comments at the time of the meeting for inclusion in the official record. The Committee will accept written comments from interested parties on issues outlined in the meeting agenda, as well as other issues affecting minority Veterans. Such comments should be sent to Mr. Ronald Sagudan, Advisory Committee on Minority Veterans, Center for Minority Veterans (00M), Department of Veterans Affairs, 810 Vermont Avenue NW., Washington, DC 20420, or email at Ronald.sagudan@va.gov. For additional information about the meeting, please contact Mr. Sagudan or Mr. Dwayne E. Campbell at (202) 461-6191.

Dated: April 15, 2013.
By Direction of the Secretary.
Vivian Drake,
Committee Management Officer.

[FR Doc. 2013-09186 Filed 4-18-13; 8:45 am]

BILLING CODE P